DEPARTMENT OF TRANSPORTATION

Federal Motor Carrier Safety Administration

[Docket No. FMCSA-2010-0193]

Agency Information Collection Activities; Revision of a Currently-Approved Information Collection Request: Transportation of Household Goods; Consumer Protection

AGENCY: Federal Motor Carrier Safety Administration (FMCSA), DOT.

ACTION: Notice; correction.

SUMMARY: The FMCSA published a notice in the Federal Register of July 21, 2010, requesting comments by Aug. 20, 2010, concerning an information collection request (ICR), “Transportation of Household Goods; Consumer Protection,” OMB Control Number 2126-0025. An error was discovered in the previous calculations of respondents.

FOR FURTHER INFORMATION CONTACT: Mr. James R. Dubose, Commercial Enforcement Division, Federal Motor Carrier Safety Administration, West Building 6th Floor, 1200 New Jersey Avenue, SE., Washington, DC 20590. Telephone: 215-656-7251; e-mail james.dubose@dot.gov.

Correction

In the Federal Register of July 21, 2010, FR Doc. 2010-17746 on page 42476, in the first column, correct “Respondents: 6,000 household goods movers” to read:

Respondents: 8,500 [6,000 household goods movers + 2,500 consumers].

Issued on: July 23, 2010.
Kelly Leone,
Director, Office of Information Technology.

[FR Doc. 2010-18631 Filed 7-28-10; 8:45 am]

BILLING CODE 4910-EX-P